DEPARTMENT OF HOMELAND SECURITY

Coast Guard

[Docket No. USCG-2022-0392]

National Merchant Marine Personnel Advisory Committee; Vacancies

AGENCY: U.S. Coast Guard, Department of Homeland Security.

ACTION: Request for applications.

SUMMARY: The U.S. Coast Guard seeks applications to fill two member vacancies on the National Merchant Marine Personnel Advisory Committee (Committee). This Committee advises the Coast Guard on matters relating to personnel in the United States merchant marine, including the training, qualifications, certification, documentation, and fitness of mariners.

DATES: Your completed applications should reach the U.S. Coast Guard on or before July 29, 2022.

ADDRESSES: Applications should include a cover letter expressing interest in an appointment to the National Merchant Marine Personnel Advisory Committee and a resume detailing the applicant's relevant experience for the position applied for, with a brief biography. Incomplete applications will not be considered. Applications should be submitted via email with subject line “Application for N-MERPAC” to megan.c.johns@uscg.mil.

FOR FURTHER INFORMATION CONTACT: Mrs. Megan Johns Henry, Alternate Designated Federal Officer of the National Merchant Marine Personnel Advisory Committee; telephone 202-372-1255 or email at megan.c.johns@uscg.mil.

SUPPLEMENTARY INFORMATION: The National Merchant Marine Personnel Advisory Committee is a Federal advisory committee. The Committee must operate under the provisions of the Federal Advisory Committee Act, (5 U.S.C. Appendix), and 46 U.S.C. 15109.

The Committee was established on December 4, 2018, by section 601 of the Frank LoBiondo Coast Guard Authorization Act of 2018 (Pub. L. 115-282, 132 Stat 4192), and is codified in 46 U.S.C. 15105. The Committee is required to meet at least once a year in accordance with 46 U.S.C. 15109(a). We expect the Committee will hold meetings at least twice a year. The meetings are held at a location selected by the U.S. Coast Guard.

All members serve at their own expense and receive no salary or other compensation from the Federal Government. Members may be reimbursed for travel and per diem in accordance with Federal Travel Regulations.

Under provisions in 46 U.S.C. 15109(f)(6), if you are appointed as a member of the Committee, your membership term will expire on December 31st of the third full year after the effective date of your appointment. The Secretary of Homeland Security may require an individual to have passed an appropriate security background examination before appointment to the Committee, 46 U.S.C. 15109(f)(4).

In this solicitation for Committee members, we will consider applications for two (2) positions:

• United States citizens holding active licenses or certificates issued under 46 U.S.C. chapter 71 or merchant mariner documents issued under 46 U.S.C. chapter 73, as a deck officer who represents merchant marine deck officers, who currently holds a Merchant Mariner Credential with an endorsement as Master of Towing Vessels.

• One individual who represents the general public.

Each member of the Committee must have particular expertise, knowledge, and experience on matters related to personnel in the United States merchant marine, including the training, qualifications, certification, documentation, and fitness of mariners.

If you are applying for the position who represents the general public, you will be appointed and serve as a Special Government Employee as defined in 18 U.S.C. 202(a). Applicants for appointment as a Special Government Employee are required to complete a Confidential Financial Disclosure Report (OGE Form 450) for new entrants and if appointed as a member must submit a new entrant OGE Form 450 annually. The Coast Guard may not release the reports or the information in them to the public except under an order issued by a Federal Court or as otherwise provided under the Privacy Act (5 U.S.C 552a). Only the Designated Coast Guard Ethics Official or their designee may release a Confidential Financial Disclosure Report. Applicants can obtain this form by going to the website of the Office of Government Ethics (www.oge.gov), or by calling or emailing the individual listed above in the FOR FURTHER INFORMATION CONTACT section. Applications for members drawn from the general public must be accompanied by a completed OGE Form 450.

In order for the Department, to fully leverage broad-ranging experience and education, the National Merchant Marine Personnel Advisory Committee must be diverse with regard to professional and technical expertise. The Department is committed to pursuing opportunities, consistent with applicable law, to compose a committee that reflects the diversity of the nation's people.

If you are interested in applying to become a member of the Committee, email your cover letter and resume along with the brief biography to megan.c.johns@uscg.mil via the transmittal method provided in the ADDRESSES section by the deadline in the DATES section of this notice.

Dated: June 24, 2022.
Jeffrey G. Lantz,
Director of Commercial Regulations and Standards.

[FR Doc. 2022-13836 Filed 6-28-22; 8:45 am]

BILLING CODE 9110-04-P